DEPARTMENT OF JUSTICE

National Institute of Corrections

Solicitation for a Cooperative Agreement—Production of Ten Satellite/Internet Broadcasts

AGENCY: National Institute of Corrections, Department of Justice.

ACTION: Solicitation for a cooperative agreement.

SUMMARY: The Department of Justice (DOJ), National Institute of corrections (NIC), announces the availability of funds in FY 2005 for a cooperative agreement to fund the production of ten satellite/Internet broadcasts. Five of the proposed programs are nationwide satellite/Internet broadcasts (three hours each). One is eight hours in length. The other four are satellite/Internet Training Programs: two of the four are site coordinator/facilitator training (Training for Trainers) sessions. The site coordinator precursor modules will contain eight hours of satellite/Internet training split over two days. The remaining two training programs are content-driven programs, 32 hours in length. For the 32-hour program, there will be 16 hours of live-broadcast satellite/Internet training over four days (supplemented by 16 hours of off-air activities directed by our trained site coordinators). There will be a total of 71 hours of broadcast time in FY 2005.

DATES: Applications must be received by 4 p.m. on Wednesday, October 20, 2004. They should be addressed to: Director, National Institute of Corrections, 320 First Street, NW., Room 5007, Washington DC 20534. Applicants are encouraged to use Federal Express, UPS, or similar service to insure delivery by the due date. Hand delivered applications can be brought to 500 First Street, NW., Room 5007, Washington DC 20534. The security desk will call Germaine Jefferson at (202) 307-3106, and 0 for pickup. Faxed or e-mailed applications will not be accepted.

FOR FURTHER INFORMATION: A copy of this announcement and the required application forms can be downloaded from the NIC Web page at http://www.nicic.org (click on “cooperative agreement.”) Hard copies of the announcement can be obtained by calling Rita Rippetoe at 1-800-995-6423, ext. 44222, or by e-mail at rrippetoe@bop.gov. Any specific questions regarding the application process should be directed to Ms. Rippetoe. All technical and/or programmatic questions concerning this announcement should be directed to Ed Wolahan, Corrections Program Specialist, at 1960 Industrial Circle, Longmont, Colorado 80501, or by calling 800-995-6429, ext. 131, or by e-mail at ewolahan@bop.gov.

SUPPLEMENTARY INFORMATION: Background: Satellite/Internet Broadcasting is defined as a training/education process transpiring between trainers/teachers at one location and participants/students at other locations via technology. NIC is using satellite broadcasting and the Internet to economically reach more correctional staff in federal, state and local agencies. Another strong benefit of satellite delivery is its ability to broadcast programs conducted by experts in the correctional field, thus reaching the entire audience at the same time with exactly the same information. In addition, NIC is creating training programs from its edited 24- and 32-hour satellite/Internet training programs that will be disseminated through the NIC Information Center.

Purpose: The purposes of funding this initiative are:

(1) Produce five three-hour satellite/Internet broadcasts, disseminating current information to the criminal justice community;

(2) Produce one eight-hour satellite/Internet broadcast that will train participants on how to implement the Prison Rape Elimination Act. This will consist of 4 hours each day with a one hour break after two hours of programing.

(3) Produce two eight-hour training sessions for site coordinators/facilitators. These sessions will train facilitators from each registered site concerning the outcomes expected and the knowledge and skills needed to facilitate the broadcast and off-air activities for the two training programs described in paragraph (4) below;

(4) Produce two satellite/Internet training programs, 16 hours in length, that respond directly to the needs identified by practitioners working in the criminal justice arena. Each 16-hour satellite/Internet training session will be delivered on four hours each day from Monday through Thursday.

Scope of Work: To address the scope of work for this project, the following will be needed:

1. Producer Consultation and Creative Services: The producer will: (a) Consult and collaborate with NIC's Distance Learning Manager on program design, program coordination, design of field segments and content development; (b) work with each consultant/trainer to develop their modules for delivery using the satellite/Internet format and/or the teleconference format; (c) help develop scripts, graphic design, production elements and rehearsals for each module of the site coordinators' training and the satellite/Internet training programs; and (d) use their expertise in designing creative ways to deliver satellite teleconferencing. The producer will also be responsible for attending planning meetings and assisting in the videotaping of testimonials at conferences.

2. Pre-Production Video: The producer will supervise the production of vignettes to be used in each of the three-hour satellite/Internet broadcasts, as well as each 16-hour satellite/Internet training program. NIC presenters (content experts) will draft outlines of the scripts for each vignette. From the outlines, scripts will be developed by the producer (script writing expert) and approved by NIC's Distance Learning Manager. Professional actors will play the parts designated by the script. Story boards for each production will be written by NIC's Distance Learning Manager. A total of between 18 and 25 vignettes will be created under this cooperative agreement. The producer will supervise camera and audio crews to capture testimonials from leaders in the correctional field at designated correctional conferences. The producer will coordinate all planning of the production and post-production for each of the ten satellite/Internet broadcasts.

Video Production: Video production for each teleconference will consist of videotaping content-related events in the field, editing existing video, and videotaping experts for testimonial presentations. It will also include voice-over, audio and music for each video, if necessary. Blank tapes and narration for field shooting will be purchased for each site. The format for all field shooting will be either Beta Cam, DV Pro Digital and/or Mini DVD.

Post Production (Studio): Innovative and thought-provoking opening sequences will be produced for each teleconference. In addition, graphics will be utilized to enhance the learning in each module. The producer will coordinate art direction, lighting, and set design and furniture for all teleconference segments. (Set design should change periodically throughout the award period.) The set will be customized to each topic. The producer will organize and supervise the complete production crew on rehearsal and production days, per the schedules below.

3. Production: The production group will set up and maintain studio lighting, adjust audio, and have a complete production crew for the days and hours set forth below. A production crew shall include the following: Director, Audio Operator, Video Operator, Character Generator Operator, Floor Director, Four (4) Camera Operators, Teleprompter Operator, On-Line Internet Coordinator, Make-Up Artist (production time only), and Interactive Assistance Personnel (fax, e-mail, and telephone).

Each production will also have closed caption for all programs except the site coordinator training. A closed-caption person will be needed for 55 hours.

After each production, the studio will provide 12 VHS copies to NIC and the Master on Beta Cam and DVD. The DVD will have a splash page that will break down each module, each day, and the vignettes that have been produced for each program.

Satellite/Internet Schedule for FY-05
(1) Prison Rape Elimination Act (PREA)—Phase II (8 hours)
Program Dates | January 26 & 27, 2005. |
Rehearsal | January 25, 2005 | 8 hours.
Production On Air & Rehearsal | January 26, 2005 | 8 hours.
Production On Air | January 27, 2005 | 5 hours.
(2) What is NIC? (3 hours)
Program Date | February 9, 2005. |
Rehearsal | February 8, 2005 | 8 hours.
Production On-Air | February 9, 2005 | 3 hours.
(3) Correctional Leadership Competencies for the 21st Century (3 hours)
Program Date | March 3, 2005. |
Rehearsal | March 2, 2005 | 8 hours.
Production On-Air | March 3, 2005 | 3 hours.
(4) Utilizing Family and Community in Offender Transition and Supervision (3 hours)
Program Date | March 16, 2005. |
Rehearsal | March 15, 2005 | 8 hours.
Production On-Air | March 16, 2005 | 3 hours.
(5) Workforce Development for Community Corrections in the 21st Century (3 hours)
Program Date | April 20, 2005. |
Rehearsal | April 19, 2005 | 8 hours.
Production On-Air | April 20, 2005 | 3 hours.
(6) Site Coordinator Training for Senior Level Leaders (8 hours)
Program Dates | May 11 & 12, 2005. |
Rehearsal | May 10, 2005 | 8 hours.
Production On-Air & Rehearsal | May 11, 2005 | 9 hours.
Production On-Air | May 12, 2005 | 4 hours.
(7) Site Coordinator Training for Strategies for Building Effective Work Teams (8 hours)
Program Dates | June 15 & 16, 2005. |
Rehearsal | June 14, 2005 | 8 hours.
Production On-Air & Rehearsal | June 15, 2005 | 9 hours.
Production On-Air | June 16, 2005 | 5 hours.
(8) Correctional Health Care and Cost Containment: (3 hours)
Program Date | July 13, 2005. |
Rehearsal | July 12, 2005. |
Production On-Air | July 13, 2005. |
(9) Senior Level Leader Training (16 hours)
Program Dates | August 22-25, 2005. |
Rehearsal | August 21, 2005 | 8 hours.
Production On-Air & Rehearsal | August 22, 2005 | 9 hours.
Production On-Air & Rehearsal | August 23, 2005 | 9 hours.
Production On-Air & Rehearsal | August 23, 2005 | 9 hours.
Production On-Air | August 24, 2005 | 5 hours.
(10) Strategies for Building Effective Work Teams (16 hours)
Program Dates | September 12-15, 2005. |
Rehearsal | September 11, 2005 | 8 hours.
Production On-Air & Rehearsal | September 12, 2005 | 9 hours.
Production On-Air & Rehearsal | September 13, 2005 | 9 hours.
Production On-Air & Rehearsal | September 14, 2005 | 9 hours.
Production On-Air | September 15, 2005 | 5 hours.

4. Transmission: a. Purchase satellite uplink time that will include the footprints of Alaska, Hawaii, Virgin Islands, and the Continental United States;

b. Acquire downlink transponder time for KU-Band and C-Band; and

c. Purchase Internet streaming of 200 simultaneous feeds for each program. Be able to have closed caption on the Internet feed.

5. Equipment: Applicants must have a minimum of the following equipment:

a. Broadcast Studio of approximately 2,000 square feet, with an area for a studio audience of between 15 and 20 people;

b. Four Digital Studio Cameras (one of which may be an overhead camera with robotic control);

c. Chroma Key: At least one wall with chroma key capability along with the digital ultimate keying system;

d. A tape operation facility providing playback/record in various formats, including DV, Betacam, Betacam SP, SVHS, VHS, U-Matic 3/4 & SP;

e. Advit or comparable editing bay;.

f. Three-dimensional animation with computer graphics;

g. Internet streaming capacity for several hundred simultaneous downloads in both G2 Real Player and Microsoft Media Player—Capture Closed caption;

h. Ability to archive four selected satellite/Internet broadcast from FY 2004 and all nine broadcasts from FY 2005;

i. Computer Teleprompter for at least three studio cameras;

j. Satellite Uplink and Transponder: KU-Band and C-Band/or Digital with C-Band to cover the footprints of Alaska, Hawaii, Virgin Islands, and the Continental United States; and

k. Portable Field Equipment—Digital Video Cameras with recording decks, portable lighting kits, microphones (both hand-held and lapel), field monitors, audio mixers, and camera tripods.

6. Personnel: Applicants must have a minimum of the following qualified personnel:

a. Producer/Director

b. Script Writer

c. Set Designer

d. Lighting Designer

e. Audio Operator

f. Graphics Operator

g. Graphics Artist

h. Floor Manager

i. Studio Camera Operators (4)

j. Tape Operator

k. Location Camera Operator

l. Teleprompter Operator

m. Clerical/Administrative Support

n. Makeup Artist (as needed during production)

o. Closed Caption Operator (as needed during production)

Application Requirements: Applicants must submit an original (signed in blue ink) and five copies of their application and the required forms (see below). Applicant must prepare a proposal that describes their plan to address the requirements to produce ten live satellite/Internet broadcasts. The plan must include a list of all required equipment, identify their key operational staff and the relevant expertise of each, and address the manner in which they would perform all tasks in collaboration with NIC's Distance Learning Supervisor. Please note that Standard Form 424, Application for Federal Assistance, submitted with the proposal, must contain the cover sheet, budget, budget narrative, assurances, certifications, and management plan. All required forms and instructions for their completion may be downloaded from the NIC Web site: http://www.nicic.org.

Authority: Public Law 93-415.

Amount of Award: This is a cooperative agreement which is a form of assistance relationship in which the National Institute of Corrections is involved during the performance of the award. This award will be made to an organization that has the capability to produce live satellite/Internet teleconferences. This initiative emphasizes television-quality production that meets or exceeds major network quality. The award will be limited to $400,000 for both direct and indirect costs related to this project. Funds may not be used to purchase equipment, for construction, or to acquire or build real property. This project will be a collaborative venture with the NIC Academy Division.

All products from this funding will be in the public domain and available to interested agencies through the National Institute of Corrections.

Funds Available: Funds are not presently available for this cooperative agreement. The Government's obligation under this cooperative agreement is contingent upon the availability of appropriated funds from which payment for cooperative agreement purposes can be made. No legal liability on the part of the government for any payment may arise until funds are made available for this cooperative agreement and until the awardee receives notice of such availability, to be confirmed in writing. Nothing contained herein shall be construed to obligate the parties to any expenditure or obligation of funds in excess or in advance of appropriation in accordance with Antideficiency Act, 31 U.S.C. 1341.

Award Period: This award period is from December 1, 2004 to November 30, 2005.

Eligibility of Applicants: An eligible applicant is any state or general unit of local government, public or private agency, educational institution, organization, team or individual with the requisite skills to successfully meet the objectives of the project.

Review Considerations: Applications received under this announcement will be subjected to a NIC three to five member review panel.

Number of Awards: One (1).

Executive Order 12372: This program is not subject to the provisions of Executive Order 12372.

NIC Application Number: 05A26. This number should appear as a reference line in your cover letter, in box 11 of Standard Form 424, and on the outside of the package sent to NIC.

Catalog of Federal Domestic Assistance Number: 16.601. Title—Corrections: Staff Training and Development.

Dated: September 13, 2004.
Larry Solomon,
Deputy Director, National Institute of Corrections.

[FR Doc. 04-20937 Filed 9-16-04; 8:45 am]

BILLING CODE 4410-36-M